DEPARTMENT OF THE TREASURY

Fiscal Service

Proposed Collection of Information: “Notice of Reclamation Electronic Funds Transfer, Federal Recurring Payments; and “Request for Debit, Electronic Funds Transfer, Federal Recurring Payments”

AGENCY: Financial Management Service, Fiscal Service, Treasury.

ACTION: Notice and request for comments.

SUMMARY: The Financial Management Service, as part of its continuing effort to reduce paperwork and respondent burden, invites the general public and other Federal agencies to take this opportunity to comment on a continuing information collection. By this notice, the Financial Management Service solicits comments concerning forms FMS-I33, “Notice of Reclamation. Electronic Funds Transfer, Federal Recurring Payment” and FMS-135, “Request for Debit. Electronic Funds Transfer, Federal Recurring Payments.”

DATES: Written comments should be received on or before June 11, 2012.

ADDRESSES: Direct all written comments to Financial Management Service, 3700 East West Highway, Records and Information Management Branch, Room 135, Hyattsville, Maryland 20782.

FOR FURTHER INFORMATION CONTACT: Requests for additional information or copies of the form(s) and instructions should be directed to Kwema Ledbetter, Director, Project Management Division, Project Management Division, Room 611B, 3700 East West Highway, Hyattsville, MD 20782, (202) 874-3974.

SUPPLEMENTARY INFORMATION: Pursuant to the Paperwork Reduction Act of 1995, (44 U.S.C. 3506(c)(2)(A)), the Financial Management Service solicits comments on the collection of information described below:

Title: “Notice of Reclamation, Electronic Funds Transfer, Federal Recurring Payments”; and “Request for Debit, Electronic Funds Transfer, Federal Recurring Payments”.

OMB Number: 1510-0043.

Form Number: FMS 133, FMS 135.

Abstract: Program agencies authorize Treasury to recover payments that have been issued after the death of the beneficiary. FMS Form 133 is used by Treasury to notify financial organizations (FO) of the FO's accountability concerning the funds. When an FO does not respond to the FMS 133, Treasury then prepares FMS 135 and sends it to the Federal Reserve Bank (FRB) to request that the FRB debit the FO's account.

Current Actions: Extension of currently approved collection.

Type of Review: Regular.

Affected Public: Business or other for-profit.

Estimated Number of Respondents: 223,128.

Estimated Time per Respondent: 12 minutes.

Estimated Total Annual Burden Hours: 44,625.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: April 4, 2012.
Sheryl R. Morrow,
Assistant Commissioner, Payment Management.

[FR Doc. 2012-8588 Filed 4-11-12; 8:45 am]

BILLING CODE 4810-35-M